DEPARTMENT OF COMMERCE

National Oceanic and Atmospheric Administration

RIN 0648-XZ76

Endangered and Threatened Wildlife and Plants; Proposed Listing Determinations for Three Distinct Population Segments of Atlantic Sturgeon in the Northeast Region

AGENCY: National Marine Fisheries Service (NMFS), National Oceanic and Atmospheric Administration (NOAA), Commerce.

ACTION: Notice of four public hearings.

SUMMARY: In November 2010, we (NMFS) will hold a total of four public hearings—one in each of the following locations: Portland, ME; Stony Brook, NY; Wilmington, DE; and Newport News, VA. These hearings are to receive comments and answer questions on the proposal to list the Gulf of Maine (GOM) Atlantic sturgeon distinct population segment (DPS) as threatened and the New York Bight (NYB) and Chesapeake Bay (CB) DPSs as endangered under the Endangered Species Act (ESA) of 1973, as amended.

DATES: The hearings will be held on November 3, 2010, from 7 to 9 p.m. in Portland, ME; on November 4, 2010, from 7 to 9 p.m. in Newport News, VA; on November 8, 2010, from 7 to 9 p.m. in Stony Brook, NY; and on November 9, 2010, from 7 to 9 p.m. in Wilmington, DE. Informational sessions will be held prior to each hearing from 6:30 to 7 p.m.

ADDRESSES: The November 3, 2010, hearing will be held at the Eastland Park Hotel, 157 High Street, Portland, ME; the November 4, 2010, hearing will be held at the Point Plaza Suites at City Center, 950 J. Clyde Morris Boulevard, Newport News, VA; the November 8, 2010, hearing will be held at Stony Brook University, School of Marine and Atmospheric Sciences, 100 Nicholls Road, Stony Brook, NY; and the November 9, 2010, hearing will be held at the Doubletree Hotel Wilmington Downtown, 700 N. King Street, Wilmington, DE.

FOR FURTHER INFORMATION CONTACT: Lynn Lankshear, NMFS, Northeast Region (978) 282-8473; Kimberly Damon-Randall, NMFS, Northeast Region (978) 282-8485; or Marta Nammack, NMFS, Office of Protected Resources (301) 713-1401.

SUPPLEMENTARY INFORMATION:

Background

On October 6, 2010, we published a proposed rule (75 FR 61872) to list the GOM DPS of Atlantic sturgeon as threatened and the NYB and CB DPSs as endangered under the ESA. We will accept oral comment regarding the proposed listing decision for the three Northeast Region DPSs of Atlantic sturgeon at four public hearings.

Special Accommodations

These hearings are physically accessible to people with disabilities. Requests for sign language interpretation or other auxiliary aids should be directed to Lynn Lankshear at (978) 282-8473 at least 7 working days prior to the hearing date.

Authority: 16 U.S.C. 1531 et seq.

Dated: October 13, 2010.
James H. Lecky,
Director, Office of Protected Resources, National Marine Fisheries Service.

[FR Doc. 2010-26272 Filed 10-14-10; 4:15 pm]

BILLING CODE 3510-22-P